OFFICE OF NATIONAL DRUG CONTROL POLICY

Notice of Re-Establishment

AGENCY: Office of National Drug Control Policy.

ACTION: Notice of Re-Establishment of Drug Control Research, Data, and Evaluation Committee.

SUMMARY: Pursuant to the Federal Advisory Committee Act, 5 U.S.C. App. 2 and 41 CFR part 101-6.1013, the Office of National Drug Control Policy re-established the Charter of the Drug Control Research, Data, and Evaluation Committee on October 29, 2003. The re-established charter is available for viewing through the Library of Congress and the United States General Services Administration.

FOR FURTHER INFORMATION CONTACT: Please direct any questions to Daniel Petersen, Assistant General Counsel, (202) 395-6622, Office of National Drug Control Policy, Executive Office of the President, Washington, DC 20503.

Daniel Petersen,
Assistant General Counsel.

[FR Doc. 03-27913 Filed 11-5-03; 8:45 am]

BILLING CODE 3180-02-P